DEPARTMENT OF TRANSPORTATION

Federal Highway Administration

Environmental Impact Statement: Rockland County, New York

AGENCY: The Federal Highway Administration (FHWA), the New York State Thruway Authority/Canal Corporation (NYSTA), and the New York Department of Transportation (DOT)

ACTION: Revised notice of intent.

SUMMARY: The FHWA, NYSTA and DOT announce the termination of the preparation of an environmental impact statement for the proposed Rockland County to Manhattan Ferry Project.

FOR FURTHER INFORMATION CONTACT: Robert Arnold, Division Administrator, FHWA, Leo W. O'Brien Federal Building, Room 719, Clinton Avenue and North Pearl Street, Albany, New York 12207, Telephone (518) 431-4127; Philip J. Clark, Director, Design Division, NYSDOT, Main Office, 1220 Washington Avenue, Albany, New York 12232, Telephone (518) 457-6452; John T. Brizzell, Deputy Executive Director/Chief Engineer, NYS Thruway Authority/Canal Corporation, 200 Southern Boulevard, Albany, New York 12209, Telephone (518) 436-2811.

SUPPLEMENTARY INFORMATION: In 1996, FHWA, NYSTA and DOT initiated an environmental review of the construction of landside facilities in Rockland County to support a high-speed ferry service between Rockland County and Manhattan.

A public scoping meeting was held on September 30, 1996 at Hyack High School, 360 Christian Herald Road, Upper Nyack, NY from 7:30 p.m. to 10:30 p.m. The scoping meeting provided information about the proposed project and allowed the public the opportunity to identify issues and concerns they believed should be addressed in the Environmental Impact Statement (EIS). Comments and suggestions were invited from all interested parties.

At present, FHWA, NYSTA and DOT will not exercise the option to prepare the draft EIS and are terminating the environmental review of the proposed action. This decision assumes that landside facilities to support a high speed ferry service between Rockland County and Manhattan would not be constructed by the project sponsors.

Authority: 23 U.S.C. 315; 23 CFR 771.123

Issued on: June 27, 2001.
David W. Nardone,
Senior Operations Engineer, New York Division.

[FR Doc. 01-16961 Filed 7-5-01; 8:45 am]

BILLING CODE 4910-22-M